SUSQUEHANNA RIVER BASIN COMMISSION

Projects Approved for Consumptive Uses of Water

AGENCY: Susquehanna River Basin Commission.

ACTION: Notice.

SUMMARY: This notice lists Approvals by Rule for projects by the Susquehanna River Basin Commission during the period set forth in DATES.

DATES: March 1-31, 2024.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.gov. Regular mail inquiries may be sent to the above address.

SUPPLEMENTARY INFORMATION: This notice lists the projects, described below, receiving approval for the consumptive use of water pursuant to the Commission's approval by rule process set forth in 18 CFR 806.22 (f) for the time period specified above.

Water Source Approval—Issued Under 18 CFR 806.22(f):

1. RENEWAL—Repsol Oil & Gas USA, LLC; Pad ID: Hickok-114; ABR-201903003.R1; Canton Township, Bradford County, Pa.; Consumptive Use of Up to 6.0000 mgd; Approval Date: March 11, 2024.

2. RENEWAL—Repsol Oil & Gas USA, LLC; Pad ID: KLINE (01 125) R; ABR-201903002.R1; Springfield Township, Bradford County, Pa.; Consumptive Use of Up to 6.0000 mgd; Approval Date: March 11, 2024.

3. RENEWAL—SWN Production Company, LLC; Pad ID: PEASE; ABR-201202016.R2; Jackson Township, Susquehanna County, Pa.; Consumptive Use of Up to 4.9990 mgd; Approval Date: March 11, 2024.

4. RENEWAL—Coterra Energy Inc.; Pad ID: TeddickM P1; ABR-201203016.R2; Brooklyn Township, Susquehanna County, Pa.; Consumptive Use of Up to 5.0000 mgd; Approval Date: March 17, 2024.

5. RENEWAL—Repsol Oil & Gas USA, LLC; Pad ID: ALDERFER (03 109) H; ABR-201203007.R2; Columbia Township, Bradford County, Pa.; Consumptive Use of Up to 6.0000 mgd; Approval Date: March 17, 2024.

6. RENEWAL—Seneca Resources Company, LLC; Pad ID: Gamble Pad O; ABR-201903009.R1; Hepburn Township, Lycoming County, Pa.; Consumptive Use of Up to 4.0000 mgd; Approval Date: March 17, 2024.

7. RENEWAL—SWN Production Company, LLC; Pad ID: ASNIP-ABODE; ABR-201202005.R2; Orwell & Herrick Townships, Bradford County, Pa.; Consumptive Use of Up to 4.9990 mgd; Approval Date: March 17, 2024.

8. RENEWAL—Chesapeake Appalachia, L.L.C.; Pad ID: Floydie; ABR-201203019.R2; Tuscarora Township, Bradford County, Pa.; Consumptive Use of Up to 7.5000 mgd; Approval Date: March 21, 2024.

9. RENEWAL—Chesapeake Appalachia, L.L.C.; Pad ID: Maggie; ABR-201203020.R2; Tuscarora Township, Bradford County, Pa.; Consumptive Use of Up to 7.5000 mgd; Approval Date: March 21, 2024.

10. RENEWAL—Coterra Energy Inc.; Pad ID: AbbottM P1; ABR-201903004.R1; Bridgewater Township, Susquehanna County, Pa.; Consumptive Use of Up to 5.0000 mgd; Approval Date: March 21, 2024.

11. RENEWAL—SWN Production Company, LLC; Pad ID: EASTMAN; ABR-201203004.R2; New Milford Township, Susquehanna County, Pa.; Consumptive Use of Up to 4.9990 mgd; Approval Date: March 21, 2024.

12. RENEWAL—Repsol Oil & Gas USA, LLC; Pad ID: CHOCONUT VALLEY FARMS (07 090); ABR-201403007.R2; Choconut Township, Susquehanna County, Pa.; Consumptive Use of Up to 6.0000 mgd; Approval Date: March 25, 2024.

13. RENEWAL—Repsol Oil & Gas USA, LLC; Pad ID: Parker 727; ABR-201203022.R2; Liberty Township, Tioga County, Pa.; Consumptive Use of Up to 6.0000 mgd; Approval Date: March 25, 2024.

14. RENEWAL—SWN Production Company, LLC; Pad ID: JOHN GOOD WEST LU9 PAD; ABR-201403008.R2; Jackson Township, Lycoming County, Pa.; Consumptive Use of Up to 4.9990 mgd; Approval Date: March 25, 2024.

15. RENEWAL—BKV Operating, LLC; Pad ID: Trecoske South Pad; ABR-201201024.R2; Silver Lake Township, Susquehanna County, Pa.; Consumptive Use of Up to 5.0000 mgd; Approval Date: March 26, 2024.

16. RENEWAL—Chesapeake Appalachia, L.L.C.; Pad ID: Ober Drilling Pad #1; ABR-201203026.R2; Asylum Township, Bradford County, Pa.; Consumptive Use of Up to 7.5000 mgd; Approval Date: March 26, 2024.

17. RENEWAL—Coterra Energy Inc.; Pad ID: BennerJ P1; ABR-201903005.R1; Forest Lake Township, Susquehanna County, Pa.; Consumptive Use of Up to 5.0000 mgd; Approval Date: March 26, 2024.

18. RENEWAL—JKLM Energy, LLC; Pad ID: Headwaters 141; ABR-201903008.R1; Ulysses Township, Potter County, Pa.; Consumptive Use of Up to 3.0000 mgd; Approval Date: March 26, 2024.

19. RENEWAL—Seneca Resources Company, LLC; Pad ID: Clermont Pad D; ABR-201403009.R2; Jones Township, Elk County; Sergeant Township, McKean County; and Shippen Township, Cameron County, Pa.; Consumptive Use of Up to 4.0000 mgd; Approval Date: March 26, 2024.

20. RENEWAL—SWN Production Company, LLC; Pad ID: WY-08 LEBER PAD; ABR-201903007.R1; North Branch Township, Wyoming County, Pa.; Consumptive Use of Up to 4.9990 mgd; Approval Date: March 26, 2024.

21. RENEWAL—Chesapeake Appalachia, L.L.C.; Pad ID: L. KINGSLEY NORTH UNIT PAD; ABR-201703008.R1; Overton Township, Bradford County, Pa.; Consumptive Use of Up to 7.5000 mgd; Approval Date: March 30, 2024.

22. RENEWAL—Range Resources—Appalachia, LLC; Pad ID: Porter, Stephen; ABR-201203028.R2; Cogan House Township, Lycoming County, Pa.; Consumptive Use of Up to 4.0000 mgd; Approval Date: March 30, 2024.

23. RENEWAL—Chesapeake Appalachia, L.L.C.; Pad ID: Circle Z BRA; ABR-201203031.R2; Wilmot Township, Bradford County, Pa.; Consumptive Use of Up to 7.5000 mgd; Approval Date: March 31, 2024.

24. RENEWAL—Chesapeake Appalachia, L.L.C.; Pad ID: Hattie BRA; ABR-201203030.R2; Wilmot Township, Bradford County, Pa.; Consumptive Use of Up to 7.5000 mgd; Approval Date: March 31, 2024.

25. RENEWAL—Chesapeake Appalachia, L.L.C.; Pad ID: Rainbow BRA; ABR-201203033.R2; Terry Township, Bradford County, Pa.; Consumptive Use of Up to 7.5000 mgd; Approval Date: March 31, 2024.

Authority: Public Law 91-575, 84 Stat. 1509 et seq., 18 CFR parts 806 and 808.

Dated: April 9, 2024.
Jason E. Oyler,
General Counsel and Secretary to the Commission.

[FR Doc. 2024-07832 Filed 4-11-24; 8:45 am]

BILLING CODE 7040-01-P